DEPARTMENT OF ENERGY

Federal Energy Regulatory Commission

[Docket No. RP00-476-005]

Southern Natural Gas Company; Notice of Compliance Filing

August 20, 2003.

Take notice that on August 12, 2003, Southern Natural Gas Company (Southern) tendered for filing as part of its FERC Gas Tariff, Seventh Revised Volume No. 1, the revised tariff sheets shown on Appendix A to the filing, in compliance with the Commission's “Order on Rehearing and Compliance” dated July 30, 2003, to become effective September 1, 2003.

Southern submits the tariff sheets to comply with the terms of the Order and Order No. 637 as follows: (1) Elaboration that it will grant intrazone segmentation transactions in reticulated areas if they are operationally feasible; (2) explanation that it will evaluate requests for segmented transactions in the reticulated areas during the standard AESB scheduling cycles; (3) explanation that Southern will not consider backhaul and forwardhaul deliveries to or from the same point to be an overlap for purposes of intrazone segmentation on its system; (4) elimination of references to the short term capacity release price cap waiver which expired in September, 2002; and (5) adjustment of the penalty for the Type 3, Level 3 Emergency OFO to be $15.00.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary”(FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 25, 2003.

Magalie R. Salas,
Secretary.

[FR Doc. 03-21894 Filed 8-26-03; 8:45 am]

BILLING CODE 6717-01-P